Proclamation 10477 of October 14, 2022

Blind Americans Equality Day, 2022

By the President of the United States of America

A Proclamation

On Blind Americans Equality Day, we celebrate the essential contributions of blind and low-vision Americans, whose talents and strength shape every industry and every community.

In 1964, President Lyndon B. Johnson issued the first Presidential Proclamation honoring the independent spirit of blind Americans and calling on us all to help build a more accessible Nation. Twenty-six years later, in 1990, we came together as Democrats and Republicans to pass the most sweeping civil rights legislation in a generation—the Americans with Disabilities Act (ADA)—improving the lives of the now more than 60 million Americans living with a disability, including more than 7 million with vision loss. I was enormously proud to cosponsor that bill as a United States Senator, and as President, I am making sure that we deliver on its full promise to end discrimination, increase independence, and expand opportunity for everyone.

The ADA has been transformational, but it did not end our work. As long as disabled Americans—including those who are blind and low-vision—face barriers to equality, opportunity, and freedom, we have more to do. That is why, on my first day in office, I was proud to sign an Executive Order establishing a government-wide commitment to equity for all. I am proud to have appointed the first-ever White House Disability Policy Director and to work every day to make sure that the dignity and rights of disabled and blind Americans are championed in every policy that we pursue.

During the pandemic, my American Rescue Plan has helped States better cover low-income adults living with disabilities on Medicaid and given schools funding to reopen safely, helping to better serve students with vision loss and other disabilities. My Administration launched the Disability Information and Access Line to help blind and other disabled people schedule COVID-19 tests and vaccinations, and we have expanded the availability of accessible at-home tests for blind and low-vision Americans. Meanwhile, my Bipartisan Infrastructure Law is expanding access to transit for blind and other disabled Americans by updating old train stations and airports. The Labor Department is defending the rights of workers with disabilities to receive a fair wage. My Administration is creating jobs by funding State and local governments, employers, and nonprofits that hire more people with disabilities, including vision loss. Additionally, the Department of Education is funding projects to teach more STEM teachers braille, in turn expanding access to STEM education for blind and low-vision students. I have also signed Executive Orders to start to remove barriers that keep too many people with disabilities from voting.

Across the board, we have been making great progress, but I know there is much more to do to guarantee every American the same fair shot to contribute, thrive, and succeed. I will keep fighting to get more disabled and blind Americans support and care in their own communities, as well as the workplace accommodations they deserve. I am proud to join so many fierce advocates in this cause, and I call today on all Americans to help us build on the ADA's promise—moving our Nation closer to realizing its full potential as a place that is truly for everyone.

By joint resolution approved on October 6, 1964 (Public Law 88-628, as amended), the Congress authorized October 15 of each year as “White Cane Safety Day,” which is recognized today as “Blind Americans Equality Day,” to honor the contributions of blind and low-vision Americans.

NOW, THEREFORE, I, JOSEPH R. BIDEN JR., President of the United States of America, by virtue of the authority vested in me by the Constitution and the laws of the United States, do hereby proclaim October 15, 2022, as Blind Americans Equality Day. I call upon all government officials, educators, volunteers and all the people of the United States to mark this day with appropriate programs, ceremonies, and activities.

IN WITNESS WHEREOF, I have hereunto set my hand this fourteenth day of October, in the year of our Lord two thousand twenty-two, and of the Independence of the United States of America the two hundred and forty-seventh.

[FR Doc. 2022-22828

Filed 10-18-22; 8:45 am]

Billing code 3395-F3-P